Memorandum of June 2, 2005

Order of Succession of Officers to Act as Secretary

of Defense

Memorandum for the Secretary of Defense

Pursuant to the Constitution and laws of the United States, including section 3345(a) of title 5, United States Code, and notwithstanding Executive Order 13000 of April 24, 1996, I direct as follows:

(1) In the event of the death, permanent disability, or resignation of the Secretary of Defense, the Secretary of the Navy shall act for and perform the duties of the Secretary of Defense as Acting Secretary of Defense.

(2) In the event of the temporary absence or temporary disability of the Secretary of Defense, the Secretary of the Navy shall act for and perform the duties of the Secretary of Defense as Acting Secretary of Defense. In these instances, the designation as Acting Secretary of Defense applies only for the duration of the Secretary's absence or disability, and does not affect the authority of the Secretary to exercise during the absence, or to resume when the disability no longer exists, the powers of his office.

(3) In all other respects, Executive Order 13000 of April 24, 1996, shall remain in effect.

(4) This memorandum shall expire upon the appointment of a Deputy Secretary of Defense, unless sooner terminated by operation of law or by the President.

(5) You are authorized and directed to publish this memorandum in the Federal Register.

B

THE WHITE HOUSE,

Washington, June 2, 2005.

[FR Doc. 05-11345

Filed 6-3-05; 9:46 am]

Billing code 5000-04-P